DEPARTMENT OF TRANSPORTATION

Federal Aviation Administration

Agency Information Collection Activities: Requests for Comments; Clearance of Renewed Approval of Information Collection: Flight Plans

AGENCY: Federal Aviation Administration (FAA), DOT.

ACTION: Notice and request for comments.

SUMMARY: In accordance with the Paperwork Reduction Act of 1995, FAA invites public comments about our intention to request the Office of Management and Budget (OMB) approval to renew an information collection. Flight plan information is used to govern the flight of aircraft for the protection and identification of aircraft, property, and persons on the ground. The Federal Register Notice with a 60-day comment period soliciting comments on the following collection of information was published on June 22, 2015. A comment was received suggesting that the original effective date of October 1, 2015 for the removal of form 7233-1 from public use is too soon to acclimate respondents to the process change. FAA has revised the effective date to October 1, 2016 for the civilian burden for flight plan information, both domestic and international to be collected via form 7233-4, FAA International Flight Plan.

DATES: Written comments should be submitted by October 16, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION: OMB Control Number: 2120-0026.

Title: Flight Plans.

Form Numbers: FAA form 7233-1, 7233-4.

Type of Review: Extension without change of an information collection.

Background: The Federal Register Notice with a 60-day comment period soliciting comments on the following collection of information was published on June 22, 2015 (80 FR 35697). Title 49 U.S.C., paragraph 40103(b) authorizes regulations governing the flight of aircraft. 14 CFR 91 prescribes requirements for filing domestic and international flight plans. Information is collected to provide services to aircraft inflight and protection of persons/property on the ground.

Respondents: Approximately 300,000 air carriers, operators and pilots.

Frequency: Information is collected on occasion.

Estimated Average Burden per Response: 1-3 minutes.

Estimated Total Annual Burden: 225,966 hours.

Issued in Washington, DC on September 9, 2015.
Ronda Thompson,
FAA Information Collection Clearance Officer, IT Enterprises Business Services Division, ASP-110.

[FR Doc. 2015-23190 Filed 9-15-15; 8:45 am]

BILLING CODE 4910-13-P